DEPARTMENT OF ENERGY

[Docket No. 14-96-LNG]

Notice of Availability of the Final Supplemental Environmental Impact Statement for the Alaska LNG Project

AGENCY: Office of Fossil Energy and Carbon Management, Department of Energy.

ACTION: Notice of availability.

SUMMARY: The Department of Energy (DOE) announces the availability of the Final Supplemental Environmental Impact Statement (SEIS) for the Alaska LNG Project (DOE/EIS-0512-S1). The Final SEIS evaluates the potential environmental impacts associated with Alaska LNG Project LLC's (Alaska LNG) existing authorization to export liquefied natural gas (LNG) from Alaska Gasline Development Corporation's (AGDC) proposed Alaska LNG Project to non-free trade agreement countries. DOE prepared the Final SEIS in accordance with the National Environmental Policy Act of 1969 (NEPA) to inform its decision on rehearing under the Natural Gas Act (NGA).

ADDRESSES:

Availability of the Final SEIS: DOE mailed notification letters to announce the Notice of Availability of the Final SEIS to federal, state, and local government representatives and agencies; elected officials; environmental and public interest groups; Tribes; other interested individuals and groups; and newspapers and libraries in the project area.

An electronic copy of the Final SEIS is available at https://www.energy.gov/nepa/doeeis-0512-s1-supplemental-environmental-impact-statement-alaska-lng-project.

Paper copies of the Final SEIS will be available for public review at the following locations: Anchorage Public Library (Z.J. Loussac Library), 3600 Denali Street, Anchorage, AK 99503; Arctic Interagency Visitor Center, Mile 175 Dalton Highway, Coldfoot, AK 99701; Charles Evans Community School Library, 299 Antoski Drive, Galena, AK 99741; Noel Wien Public Library, 1215 Cowles Street, Fairbanks, AK 99701; Kenai Community Library, 163 Main Street Loop, Kenai, AK 99611; Trapper Creek Library, 8901 East Devonshire Drive, Trapper Creek, AK 99683; Tri-Valley Community Library, Suntrana Road, P.O. Box 518, Healy, AK 99743; and Wasilla Public Library, 500 North Crusey Street, Wasilla, AK 99654. Additional copies of the Final SEIS may be requested from the point of contact set forth below.

FOR FURTHER INFORMATION CONTACT: Mark Lusk, NEPA Compliance Officer, National Energy Technology Laboratory, U.S. Department of Energy, (304) 285-4145, mark.lusk@netl.doe.gov.

SUPPLEMENTARY INFORMATION:

Background

DOE's Office of Fossil Energy and Carbon Management ¹ is in the process of rehearing DOE/FE Order No. 3643-A, issued on August 20, 2020, in Docket No. 14-96-LNG (Alaska LNG Order).² In the Alaska LNG Order, DOE authorized Alaska LNG to export LNG from AGDC's proposed Alaska LNG Project to countries that do not have a free trade agreement (FTA) requiring national treatment for trade in natural gas, and with which trade is not prohibited by U.S. law or policy (non-FTA countries), under NGA section 3(a).³

¹ The Office of Fossil Energy (FE) changed its name to the Office of Fossil Energy and Carbon Management (FECM) on July 4, 2021.

² See Alaska LNG Project LLC, DOE/FE Order No. 3643-A, Docket 14-96-LNG, Final Opinion and Order Granting Long-Term Authorization to Export Liquefied Natural Gas to Non-Free Trade Agreement Nations (Aug. 20, 2020), www.energy.gov/fecm/downloads/alaska-lng-project-llc-fe-dkt-no-14-96-lng-0. For all DOE documents referenced herein, please see the Alaska LNG docket at www.energy.gov/fecm/articles/alaska-lng-project-llc-fe-dkt-no-14-96-lng.

³ 15 U.S.C. 717b(a).

As approved by the Federal Energy Regulatory Commission (FERC) on May 21, 2020, the Alaska LNG Project involves producing natural gas from resources on the North Slope of Alaska, transporting the natural gas on a proposed 806.9-mile-long pipeline, and exporting the natural gas in the form of LNG by vessel from a liquefaction facility to be constructed in the Nikiski area of the Kenai Peninsula in south-central Alaska.⁴ Under the Alaska LNG Order, Alaska LNG is currently authorized to export this LNG in a volume equivalent to 929 billion cubic feet (Bcf) per year of natural gas (2.55 Bcf per day), for a term of 30 years.

⁴ See Alaska Gasline Dev. Corp., Order Granting Authorization Under Section 3 of the Natural Gas Act, FERC Docket No. CP17-178-000, 171 FERC ¶ 61,134 (2020). AGDC, an independent, public corporation of the State of Alaska, holds the authorization from FERC to site, construct, and operate the proposed Alaska LNG Project.

On April 15, 2021, in Order No. 3643-B, DOE announced that it was granting rehearing of the Alaska LNG Order under the NGA for the purpose of conducting additional environmental analysis.⁵ DOE stated that, based on findings from this additional analysis, DOE intended to issue an order under NGA section 3(a) in which DOE may exercise its authority to reaffirm, modify, or set aside the Alaska LNG Order, in whole or in part.

⁵ See Alaska LNG Project LLC, DOE/FE Order No. 3643-B, Docket 14-96-LNG, Order on Rehearing (Apr. 15, 2021), www.energy.gov/sites/default/files/2021-04/ord3643b.pdf. DOE's Order on Rehearing granted a Request for Rehearing filed by Sierra Club. See id. at 1-2, 5-6.

Subsequently, on July 2, 2021, DOE published a “Notice of Intent to Prepare a Supplemental Environmental Impact Statement for the Alaska LNG Project” ⁶ under NEPA.⁷ The SEIS was to include analysis from two environmental studies, and DOE's National Energy Technology Laboratory (NETL) was tasked with conducting both studies.⁸

⁶ See U.S. Dep't of Energy, Notice of Intent to Prepare a Supplemental Environmental Impact Statement for the Alaska LNG Project, 86 FR 35280 (July 2, 2021); see also www.energy.gov/nepa/articles/doeeis-0512-s1-notice-intent-july-2-2021.

⁷ 42 U.S.C. 4321 et seq.

⁸ 86 FR 35281.

The Final SEIS being issued today supplements the Final Environmental Impact Statement (EIS) for the Alaska LNG Project published by FERC on March 6, 2020, and adopted by DOE on March 16, 2020 (DOE/EIS-0512). Specifically, the Final SEIS (1) examines the potential upstream environmental effects associated with incremental natural gas production on the North Slope of Alaska to support Alaska LNG's authorized exports of LNG, and (2) includes a life cycle analysis calculating the greenhouse gas emissions associated with exporting LNG by vessel from the proposed Alaska LNG Project to import markets in Asia (the markets targeted for exports from Alaska) and potentially in other regions.

NEPA Process and Public Involvement

DOE prepared the SEIS in accordance with the Council on Environmental Quality (CEQ) regulations at title 40, Code of Federal Regulations, parts 1500-1508 (40 CFR part 1500-1508) and DOE's NEPA implementing procedures at 10 CFR part 1021. DOE announced a Notice of Availability (NOA) for the Draft SEIS on June 24, 2022, and published the NOA in the Federal Register on June 29, 2022.⁹ DOE invited public comments on the Draft SEIS during a 45-day period that began on July 1, 2022, and extended through August 15, 2022. During the public comment period, a virtual public meeting was held on July 20, 2022. DOE collected verbal and written comments during the public meeting and throughout the public comment period. All comments received during the 45-day comment period were considered during the preparation of the Final SEIS.

⁹ 87 FR 38730 (June 29, 2022).

DOE Action

DOE will consider the information provided in the Final SEIS, among other factors, as part of the Record of Decision (ROD) to reaffirm, modify, or set aside the Alaska LNG Order. The ROD will be issued no sooner than 30 days from the date that a Notice of Availability is published by the United States Environmental Protection Agency in the Federal Register. In particular, DOE has announced that it will issue the final order and ROD on or before March 30, 2023.¹⁰

¹⁰ See Alaska LNG Project LLC, Docket 14-96-LNG, Second Notice of Amended Schedule for Supplemental Environmental Impact Statement (Oct. 28, 2022).

Signed in Washington, DC, on January 6, 2023.
Amy Sweeney,
Director, Office of Regulation, Analysis, and Engagement, Office of Resource Sustainability.

[FR Doc. 2023-00345 Filed 1-10-23; 8:45 am]

BILLING CODE 6450-01-P